DEPARTMENT OF COMMERCE

International Trade Administration

Initiation of Antidumping and Countervailing Duty Administrative Reviews

AGENCY: Enforcement and Compliance, International Trade Administration, Department of Commerce.

FOR FURTHER INFORMATION CONTACT: Marcia E. Short, Office of AD/CVD Operations, Customs Liaison Unit, Enforcement and Compliance, International Trade Administration, U.S. Department of Commerce, 1401 Constitution Avenue NW., Washington, DC 20230, telephone: (202) 482-1560.

SUPPLEMENTARY INFORMATION:

Background

On August 1, 2017, the Department of Commerce (the Department) published the June Initiation Notice ¹ in which the Department inadvertently initiated an antidumping duty administrative review of Polyester Staple Fiber from Taiwan (A-583-833) covering the period May 1, 2016, through April 30, 2017. The Department did not intend to initiate a review with respect to this order. Instead, the Department intended to correct the May Initiation Notice ² in which the Department inadvertently included TFM North America, Inc. in the initiation notice with respect to the antidumping duty administrative review of Certain Stillbenic Optical Brightening Agents (A-583-848) covering the period May 1, 2016 through April 30, 2017. The Department only intended to initiate a review with respect to Teh Fong Min International Co. Ltd. In addition, in the June Initiation Notice the Department misspelt Teh Fong Min International Co. Ltd. as The Fong Min International Co. Ltd.³ This notice serves as a correction to the June Initiation Notice.

¹ See Initiation of Antidumping and Countervailing Duty Administrative Reviews; 82 FR 35749 (August 2, 2017) (June Initiation Notice).

² See Initiation of Antidumping and Countervailing Duty Administrative Reviews; 82 FR 31292 (June 6, 2016) (May Initiation Notice).

³ See June Initiation Notice, 82 FR at 35749.

Dated: August 9, 2017.
James Maeder,
Senior Director, perfoming the Duties of Deputy Assistant Secretary for Antidumping and Countervailing Duty Operations.

[FR Doc. 2017-17114 Filed 8-11-17; 8:45 am]

BILLING CODE 3510-DS-P